NUCLEAR REGULATORY COMMISSION

10 CFR Part 52

[NRC-2020-0269]

RIN 3150-AK56

Extending the Duration of the AP1000 Design Certification

AGENCY: Nuclear Regulatory Commission.

ACTION: Direct final rule; confirmation of effective date.

SUMMARY: The U.S. Nuclear Regulatory Commission (NRC) is confirming the effective date of December 6, 2021, for the direct final rule that was published in the Federal Register on September 22, 2021. This direct final rule amends the NRC's regulations to update the design to reflect changes provided by Westinghouse Electric Company LLC and to extend the duration of the AP1000 design certification for an additional 5 years.

DATES: Effective date: The effective date of December 6, 2021, for the direct final rule published September 22, 2021 (86 FR 52593), is confirmed.

ADDRESSES: Please refer to Docket ID NRC-2020-0269 when contacting the NRC about the availability of information for this action. You may obtain publicly available information related to this action by any of the following methods:

• Federal Rulemaking Website: Go to https://www.regulations.gov and search for Docket ID NRC-2020-0269. Address questions about NRC dockets to Dawn Forder; telephone: 301-415-3407; email: Dawn.Forder@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, at 301-415-4737, or by email to PDR.Resource@nrc.gov. The ADAMS accession number for each document referenced (if it is available in ADAMS) is provided the first time that it is mentioned in the SUPPLEMENTARY INFORMATION section.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

FOR FURTHER INFORMATION CONTACT: Daniel Doyle, Office of Nuclear Material Safety and Safeguards, telephone: 301-415-3748, email: Daniel.Doyle@nrc.gov, or Bruce Bavol, Office of Nuclear Reactor Regulation, telephone: 301-415-6715, email: Bruce.Bavol@nrc.gov. Both are staff of the U.S. Nuclear Regulatory Commission, Washington, DC 20555-0001.

SUPPLEMENTARY INFORMATION: On September 22, 2021 (86 FR 52593), the NRC published a direct final rule amending its regulations in part 52 of title 10 of the Code of Federal Regulations to update the design to reflect changes provided by Westinghouse Electric Company LLC and to extend the duration of the AP1000 design certification for an additional 5 years.

The NRC received and docketed three comment submissions on the companion proposed rule (86 FR 52619; September 22, 2021). Electronic copies of the comments can be obtained from the Federal rulemaking website https://www.regulations.gov under Docket ID NRC-2020-0269 and are also available in ADAMS under Accession Nos. ML21280A348, ML21293A316, and ML21293A315.

In the direct final rule, the NRC stated that if no significant adverse comments were received, the direct final rule would become effective on December 6, 2021. The NRC received three comment submissions. The NRC evaluated the submissions against the criteria described in the direct final rule and determined that the comments were not significant and adverse or were outside the scope of the direct final rule. Specifically, one comment submission was from an Indian Tribe, and it requested no further consultation on this project. A second comment submission agreed with this rulemaking and, thus, was not adverse. The third comment submission did not provide any comment for the NRC to consider. Therefore, the direct final rule will become effective as scheduled.

Dated: November 12, 2021.
For the Nuclear Regulatory Commission.
Angella M. Love Blair,
Acting Chief, Regulatory Analysis and Rulemaking Support Branch, Division of Rulemaking, Environmental, and Financial Support, Office of Nuclear Material Safety and Safeguards.

[FR Doc. 2021-25074 Filed 11-16-21; 8:45 am]

BILLING CODE 7590-01-P